DEPARTMENT OF HEALTH AND HUMAN SERVICES

Substance Abuse and Mental Health Services Administration

Center for Mental Health Services; Notice of Meeting

Pursuant to Public Law 92-463, notice is hereby given of a meeting of the Center for Mental Health Services (CMHS) National Advisory Council in May 2000.

A portion of the meeting will be open and will include a discussion about the Community Action Grant Program, consumer affairs, the Asian American Pacific Islander Program initiative, and workplace/training issues in the mental health field. Public comments are welcome during the open session. Please communicate with the individual listed as contact below for guidance. If anyone needs special accommodations for persons with disabilities please notify the contact listed below.

The meeting will include the review, discussion, and evaluation of individual grant applications. Therefore, a portion of the meeting will be closed to the public as determined by the Administrator, SAMHSA, in accordance with Title 5 U.S.C. 552b(c)(3), and (6) and 5 U.S.C. App. 2, § 10(d).

A summary of the meeting and a roster of Council members may be obtained from: Ms. Patricia Gratton, Committee Management Officer, CMHS National Advisory Council, 5600 Fishers Lane, Room 11 C-26, Rockville, Maryland 20857, telephone: (301) 443-7987.

Substantive program information may be obtained from the contact whose name and telephone number is listed below.

Committee Name: Center for Mental Health Services National Advisory Council.

Meeting Date: May 9, 2000.

Place: Bethesda Marriott Pooks Hill Hotel, 5151 Pooks Hill Road, Bethesda, Maryland 20814.

Closed: May 9, 2000, 9:00 a.m. to 9:45 a.m.

Open: May 9, 2000, 9:45 a.m. to 5:30 p.m.

Contact: Eileen S. Pensinger, Executive Secretary, Telephone: (301) 443-4823 and FAX: (301) 443-4865.

Dated: April 18, 2000.
Toiann Vaughn,
Committee Management Officer, Substance Abuse and Mental Health Services Administration.

[FR Doc. 00-10698 Filed 4-28-00; 8:45 am]

BILLING CODE 4162-20-P